DEPARTMENT OF TRANSPORTATION

Federal Aviation Administration

14 CFR Part 71

[Docket No. FAA-2008-0897; Airspace Docket No. 08-AWP-9]

RIN 2120-AA66

Proposed Amendment of Class E Airspace; Guam Island, GU and Saipan Island, CQ

AGENCY: Federal Aviation Administration (FAA), DOT.

ACTION: Notice of proposed rulemaking (NPRM).

SUMMARY: This action proposes to remove, rename and expand the Class E airspace areas serving Guam International Airport, Anderson AFB and Saipan Island. Additionally, this proposed action would revoke the Saipan Island Class E surface area since it is no longer required, and expand other controlled airspace areas to protect aircraft conducting instrument approaches to Saipan International Airport. The FAA is proposing these actions to enhance the safety and management of aircraft operations in the vicinity of the Northern Mariana Islands.

DATES: Comments must be received on or before January 26, 2009.

ADDRESSES: Send comments on this proposal to the U.S. Department of Transportation, Docket Operations, M-30, 1200 New Jersey Avenue, SE., West Building Ground Floor, Room W12-140, Washington, DC 20590-0001; telephone: (202) 366-9826. You must identify FAA Docket No. FAA-2008-0897 and Airspace Docket No. 08-AWP-9 at the beginning of your comments. You may also submit comments through the Internet at http://www.regulations.gov.

FOR FURTHER INFORMATION CONTACT: Ken McElroy, Airspace and Rules Group, Office of System Operations Airspace and AIM, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2008-0897 and Airspace Docket No. 08-AWP-9) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2008-0897 and Airspace Docket No. 08-AWP-9.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/airports_airtraffic/air_traffic/publications/airspace_amendments/.

You may review the public docket containing the proposal, any comments received and any final disposition in person in the Dockets Office (see ADDRESSES section for address and phone number) between 9 a.m. and 5 p.m., Monday through Friday, except Federal holidays. An informal docket may also be examined during normal business hours at the Northwest Mountain Regional Office of the Federal Aviation Administration, Air Traffic Organization, Western Service Area, System Support Group, 1601 Lind Avenue, SW., Renton, WA 98057.

Persons interested in being placed on a mailing list for future NPRMs should contact the FAA's Office of Rulemaking, (202) 267-9677, for a copy of Advisory Circular No. 11-2A, Notice of Proposed Rulemaking Distribution System, which describes the application procedure.

Background

During an airspace review conducted by Guam ARTCC personnel, it was determined that the Class E airspace descriptions were outdated and required revision to contain current instrument operations within controlled airspace.

The Proposal

The FAA is proposing an amendment to Title 14 Code of Federal Regulations (14 CFR) part 71 to amend Class E airspace at Guam, and Saipan Islands. This proposed action would remove the Saipan Island Class E surface area airspace since it is no longer required for operations and expand other controlled airspace for the safety of aircraft conducting instrument approaches to Saipan International Airport. In addition, this action would remove, rename and expand the Class E airspace areas serving Guam International Airport, and Anderson AFB, and rename the Guam Island Class E airspace to the Northern Mariana Islands Class E airspace. Controlled airspace is necessary to accommodate Instrument Flight Rules aircraft operations. This action would enhance the safety and management of aircraft operations in the Northern Mariana Islands.

Class E airspace designations are published in paragraph 6000 of FAA Order 7400.9S, signed October 3, 2008, and effective October 31, 2008, which is incorporated by reference in 14 CFR 71.1. The Class E airspace designation listed in this document will be published subsequently in this Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes controlled airspace at Guam and Saipan Islands.

ICAO Considerations

As part of this proposal relates to navigable airspace outside the United States, this notice is submitted in accordance with the International Civil Aviation Organization (ICAO) International Standards and Recommended Practices. Applicability of International Standards and Recommended Practices by the Air Traffic Rules and Procedures Service, FAA, in areas outside domestic airspace of the United States is governed by Article 12 of, and Annex 11 to, the Convention on International Civil Aviation, which pertains to the establishment of air navigational facilities and services necessary to promote the safe, orderly, and expeditious flow of civil air traffic. Their purpose is to ensure that civil aircraft operations on international air routes are carried out under uniform conditions designed to improve the safety and efficiency of air operations.

The International Standards and Recommended Practices in Annex 11 apply in those parts of the airspace under the jurisdiction of a contracting state, derived from ICAO, wherein air traffic services are provided and also whenever a contracting state accepts the responsibility of providing air traffic services over high seas or in airspace of undetermined sovereignty. A contracting state accepting such responsibility may apply the International Standards and Recommended Practices in a manner consistent with that adopted for airspace under its domestic jurisdiction.

In accordance with Article 3 of the Convention on International Civil Aviation, Chicago, 1944, state aircraft are exempt from the provisions of Annex 11 and its Standards and Recommended Practices. As a contracting state, the United States agreed by Article 3(d) that its state aircraft will be operated in international airspace with due regard for the safety of civil aircraft.

Since this action involves, in part, the designation of navigable airspace outside the United States, the Administrator is consulting with the Secretary of State and the Secretary of Defense in accordance with the provisions of Executive Order 10854.

Environmental Review

The FAA has determined that this action qualifies for categorical exclusion under the National Environmental Policy Act in accordance with FAA Order 1050.1E, paragraph 311a Environmental Impacts: Polices and Procedures. This airspace action is not expected to cause any potentially significant environmental impacts, and no extraordinary circumstances exist that warrant preparation of an environmental assessment.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of FAA Order 7400.9S, Airspace Designations and Reporting Points, signed October 3, 2008, and effective October 31, 2008, is amended as follows:

Paragraph 6002 Class E Airspace Areas Designated as an Extension to a Class D Surface Area.

* * * * *

AWP CQ E2 Saipan Island, CQ [Removed]

* * * * *

Paragraph 6004 Class E Airspace Areas Designated as Extensions to Surface Areas.

AWP CQ E4 Saipan Island, CQ [Amended]

Saipan International Airport, CQ

(Lat. 15°07′08″ N, Long. 145°43′46″ E)

Saipan NDB

(Lat. 15°06′41″ N, Long. 145°42′37″ E)

That airspace extending upward from the surface within a 4.3 mile radius of Saipan International Airport and within 3 miles north and 2-miles south of the Saipan NDB 248° bearing, extending from the 4.3 mile radius to 8.5-miles southwest of the NDB and within 3 miles each side of the Saipan NDB 068° bearing extending from the 4.3 mile radius to 9 miles northeast of the NDB.

* * * * *

AWP GU E4 Guam Island, Agana NAS, GU [Removed]

* * * * *

AWP GU E4 Guam International Airport, GU [New]

Tiyan, Guam International Airport, GU

(Lat. 13°29′02″ N, Long. 144°47′50″ E)

Nimitz VORTAC

(Lat. 13°27′16″ N, Long. 144°44′00″ E)

That airspace extending upward from the surface within 2 miles each side of the Nimitz VORTAC 245° radial, extending from the 4.3 mile radius of Guam International Airport to 5 miles southwest of the Nimitz VORTAC.

* * * * *

AWP GU E4 Guam Island, GU [Removed]

* * * * *

AWP GU E4 Anderson AFB, GU [New]

Yigo, Andersen AFB, GU

(Lat. 13°35′02″ N, Long. 144°55′48″ E)

Tiyan, Guam International Airport, GU

(Lat. 13°29′02″ N, Long. 144°47′50″ E)

That airspace extending upward from the surface within 3 miles each side of the 065° bearing from Andersen AFB extending from the 4.3-mile radius of Andersen AFB to 8.5 miles northeast and that airspace within 2 miles north of and 3.5 miles south of the 245° bearing from Andersen AFB, extending from the 4.3-mile radius of the airport to 7.5 miles southwest of Andersen AFB, excluding the Guam International Airport Class D airspace area.

* * * * *

Paragraph 6005 Class E Airspace Areas Designated Extending Upward from 700 feet or More Above the Surface of the Earth.

* * * * *

AWP GU E5 Guam Island, GU [Removed]

* * * * *

AWP NMI E5 Northern Mariana Islands, NMI [New]

Yigo, Andersen AFB, GU

(Lat. 13°35′02″ N, Long. 144°55′48″ E)

Rota International Airport, CQ

(Lat. 14°10′28″ N, Long. 145°14′28″ E)

Saipan International Airport, CQ

(Lat. 15°07′08″ N, Long. 145°43′46″ E)

Tinian International Airport, CQ

(Lat. 14°59′57″ N, Long. 145°37′10″ E)

Nimitz VORTAC

(Lat. 13°27′16″ N, Long. 144°44′00″ E)

Saipan NDB

(Lat. 15°06′41″ N, Long. 145°42′37″ E)

That airspace extending upward from 700 feet above the surface within a 12 mile radius of Andersen AFB and within 12 miles each side of the 245° bearing from Andersen AFB extending from the 12-mile radius to 35 miles southwest of Andersen AFB and within an 8 mile radius of Rota International Airport, and within a 12 mile radius of Saipan International Airport and within a 7 mile radius of Tinian International Airport. That airspace extending upward from 1,200 feet above the surface within a 100-mile radius of the Nimitz VORTAC and within a 35 mile radius of the Saipan NDB, excluding the portion that coincides with W-517.

* * * * *

Issued in Washington DC on November 25, 2008.
Edith V. Parish,
Manager, Airspace and Rules Group.

[FR Doc. E8-29255 Filed 12-9-08; 8:45 am]

BILLING CODE 4910-13-P